DEPARTMENT OF THE INTERIOR

Bureau of Land Management

[NV-050-02-5101-ER-F331; N-75493, N-75471, N-75472, N-75474, N-75475,N-75476, N-75477]

Notice of Availability of the Final Environmental Impact Statement for Ivanpah Energy Center

AGENCY: Bureau of Land Management, Interior.

ACTION: Notice of Availability (NOA) of the Final Environmental Impact Statement (FEIS) for Ivanpah Energy Center (Ivanpah); and to announce locations where copies of the FEIS can be obtained for reading.

SUMMARY: Pursuant to Section 102 (2)(C) of the National Environmental Policy Act (NEPA) of 1969, a FEIS has been prepared by the Bureau of Land Management (BLM), Las Vegas Field Office for Ivanpah. Western Area Power Administration (WAPA) is a cooperating agency. The FEIS was prepared to analyze the impacts of issuing rights-of-way for a gas-fired electric power plant and ancillary facilities (including, electric transmission lines, interconnection at WAPA's Mead substation, electric substations, water pipeline, access roads, and telecommunication facilities).

DATES: A 30-day availability period will start when the Environmental Protection Agency publishes their NOA and filing of the FEIS in the Federal Register. Upon completion of the 30-day availability period, the BLM will respond to all comments received on the FEIS and then will issue a Record of Decision (ROD). The local media will announce the ROD. Copies of the ROD will be sent to those who requested a copy, made substantive comments, or those known to have expressed a strong interest in the project.

ADDRESSES: Public reading copies of the FEIS will be available for reading at public libraries located at the following addresses:

• 650 West Quartz Avenue, Sandy Valley, NV

• 365 West San Pedro, Goodsprings, NV

• 4280 South Jones Blvd., Las Vegas, NV

A limited number of copies of the document will be available at the following BLM and WAPA offices:

• Bureau of Land Management, Nevada State Office, 1340 Financial Blvd., Reno, NV

• Bureau of Land Management, Las Vegas Field Office, 4701 Torrey Pines Drive, Las Vegas, NV

• Western Area Power Administration, Corporate Service Office, A7400, 12155 West Alameda Parkway, Lakewood, CO

• Western Area Power Administration, Desert Southwest Regional Office, 615 South 43rd Avenue, Phoenix, AZ

FOR FURTHER INFORMATION CONTACT: Jerry Crockford, Project Manager, Bureau of Land Management, Las Vegas Field Office, 4701 N. Torrey Pines Drive, Las Vegas, NV 89130-2301 or Bureau of Land Management, Farmington Field Office, 1235 La Plata Highway, Suite A, Farmington, NM 87401; telephone (505) 599-6333, cellular telephone (505) 486-4255.

SUPPLEMENTARY INFORMATION: The FEIS addresses the proposed action and two alternatives.

The proposed action can be summarized as: Constructing, operating, and maintaining a 500 megawatt gas-turbine combined-cycle power plant in the Ivanpah Valley, approximately 20 miles south of Las Vegas, Nevada. Except for a related electric transmission line, the proposed generating facility and most ancillary facilities are located on 30-acres of public land administered by the BLM, in the MDBM, T. 25 S., R. 58 E., sec. 1, and T. 25 S., R. 59 E., sec. 6. The facility would use a refrigerated air system to reduce cooling water requirements normally associated with combined-cycle power plants. Power generated from Ivanpah would enter the southern Nevada power grid through WAPA's Mead Substation, in Eldorado Valley.

The proposed plant site is located 2.5-miles southeast of the town of Goodsprings, Nevada. The proposed action includes the following ancillary facilities: a 12-inch diameter gas pipeline interconnection to the adjacent Kern River Gas Transmission (KRGT) gas pipeline; a four-inch diameter water pipeline originating from the Southern Nevada Correctional Center (SNCC) in Jean, Nevada, to supply water processed through a planned water treatment facility to provide process water for plant operations; a telecommunications line; a 230 kilovolt (kV) substation; the following 230 kV transmission lines: (1) Two 230 kV lines from the proposed Ivanpah Substation to the Pahrump-Mead 230 kV line corridor; (2) a 43-mile 230 kV line from the Ivanpah Substation to the WAPA Mead Substation, in Eldorado Valley, Nevada; and (3) two 230 kV lines from the Ivanpah Substation to the Table Mountain Substation and Valley Electric Association's Pahrump-Mead Transmission Line; and the following fiber optic lines: (1) An optical-fiber ground wire (OPGW) shield wire as an integral part of the Ivanpah-Mead #2 transmission line; and (2) an OPGW as an integral part of the Table Mountain-Ivanpah #1 transmission line. Access to Ivanpah would be via an existing, unimproved road connected to State Highway 161.

An alternative plant site, located in Primm, Nevada, would be co-located with the Reliant Bighorn Power Plant (Bighorn), on a 30-acre parcel on private property. Ancillary facilities to the alternative plant site includes: An 11 mile long water supply pipeline from SNCC to the power plant; a 40-mile long transmission line to interconnect the plant to the WAPA Mead Substation; approximately 14 miles of transmission lines to interconnect the facility to the proposed Table Mountain Substation and the Valley Electric Association's Pahrump-Mead transmission line; a 3.2-mile natural gas pipeline connecting to KRGT natural gas pipeline; use of existing access roads; and telecommunications facilities. This is the Agencies' Preferred Alternative. However, this site is presently unavailable due to some business considerations that the owners of the Bighorn site have yet to make.

The plant will require approximately 22 months for construction. The plant will be built to operate continuously, except for semi-annual maintenance shutdowns, with a projected 40-year life. Power will be sold into the commercial power markets of Nevada, California, and Arizona.

Under the No Action Alternative, BLM would not issue right-of-way grants for the Ivanpah Energy Center and ancillary facilities. The project including the power plant, electric transmission lines, substation interconnection, electric substations, water pipeline, access road, telecommunication facilities, and temporary use areas would not be constructed. The area proposed for Ivanpah Energy Center would remain undeveloped. An identified energy need would not be met by this alternative.

Public participation is encouraged throughout processing of this project. Comments presented throughout the process will be considered.

Dated: March 5, 2003.
Mark T. Morse,
Field Manager.

[FR Doc. 03-12131 Filed 5-15-03; 8:45 am]

BILLING CODE 4310-HC-P